COMMITTEE FOR PURCHASE FROM PEOPLE WHO ARE BLIND OR SEVERELY DISABLED

Procurement List; Proposed Additions and Deletions

AGENCY: Committee for Purchase From People Who Are Blind or Severely Disabled.

ACTION: Proposed addition to and deletion from Procurement List.

SUMMARY: The Committee is proposing to add to the Procurement List services to be furnished by nonprofit agencies employing persons who are blind or have other severe disabilities, and to delete products previously furnished by such agencies.

COMMENTS MUST BE RECEIVED ON OR BEFORE: March 10, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly (703) 603-7740.

SUPPLEMENTARY INFORMATION: This notice is published pursuant to 41 U.S.C. 47(a)(2) and 41 CFR 51-2.3. Its purpose is to provide interested persons an opportunity to submit comments on the possible impact of the proposed actions.

Additions

If the Committee approves the proposed addition, the entities of the Federal Government identified in the notice for each service will be required to procure the service listed below from nonprofit agencies employing persons who are blind or have other severe disabilities. I certify that the following action will not have a significant impact on a substantial number of small entities. The major factors considered for this certification were:

1. The action will not result in any additional reporting, recordkeeping or other compliance requirements for small entities other than the small organizations that will furnish the service to the Government.

2. The action will result in authorizing small entities to furnish the service to the Government.

3. There are no known regulatory alternatives which would accomplish the objectives of the Javits-Wagner-O' Day Act (41 U.S.C. 46-48c) in connection with the service proposed for addition to the Procurement List. Comments on this certification are invited. Commenters should identify the statement(s) underlying the certification on which they are providing additional information. The following services are proposed for addition to Procurement List for production by the nonprofit agencies listed:

Services

Service Type/Location: CD-ROM Replication—Program 2239S, U.S. Government Printing Office, Philadelphia Regional Printing Procurement Office, Southhampton, PA.

Nonprofit Agency: Association for the Blind & Visually Impaired—Goodwill Industries of Greater Rochester, Rochester, New York.

Contracting Activity: U.S. Government Printing Office, Philadelphia Regional Printing Procurement Office.

Service Type/Location: Janitorial/Custodial Naval and Marine Corps Reserve Center, Boise, Idaho.

Nonprofit Agency: Western Idaho Training Company, Inc., Caldwell, Idaho.

Contracting Activity: NAVFAC-Naval Station Everett.

Service Type/Location: Janitorial/Custodial, Naval and Marine Corps Reserve Center, Eugene, Oregon.

Nonprofit Agency: Pearl Buck Center Incorporated, Eugene, Oregon.

Contracting Activity: NAVFAC-Naval Station Everett, Everett, Washington.

Service Type/Locations: Janitorial/Grounds Maintenance, At the following locations:

Border Patrol Traffic Checkpoint, Sierra Blanca, TX

Border Patrol Station, Sierra Blanca, TX.

Border Patrol Station, Van Horn, TX.

Border Patrol Station, Pecos, TX.

Border Patrol Station, Fort Stockston, TX.

Border Patrol Station, Sanderson, TX.

Border Patrol Traffic Checkpoint, Marathon, TX.

Border Patrol Station, Alpine, TX.

Border Patrol Station, Marfa, TX.

Border Patrol Traffic Checkpoint, Marfa, TX.

Border Patrol Station, Presidio, TX.

Border Patrol Anti-Smuggling Unit Office, Marfa, TX.

Border Patrol Traffic Checkpoint, Alpine, TX.

Border Patrol Air Operations Facility, Marfa Airport, Marfa, TX.

Nonprofit Agency: Professional Contract Services, Inc., Austin, Texas.

Contracting Activity: Immigration and Naturalization Service, DOJ.

Service Type/Location: Office Supply Store, Department of Treasury Annex, Office Supply Store, Washington, DC.

Nonprofit Agency: Winston-Salem Industries for the Blind, Winston-Salem, North Carolina.

Contracting Activity: Department of the Treasury.

Deletion

I certify that the following action will not have a significant impact on a substantial number of small entities. The major factors considered for this certification were:

1. The action will not result in any additional reporting, recordkeeping or other compliance requirements for small entities.

2. The action will result in authorizing small entities to furnish the service to the Government.

3. There are no known regulatory alternatives which would accomplish the objectives of the Javits-Wagner-O' Day Act (41 U.S.C. 46-48c) in connection with the service proposed for deletion from the Procurement List.

The following commodities are proposed for deletion from the Procurement List:

Commodities

Commodity/NSN: Squeegee, Floor-Cleaning, 7920-00-530-5740, 7920-00-965-4873, 7920-00-224-8339.

Sheryl D. Kennerly,
Director, Information Management.

[FR Doc. 02-3093 Filed 2-7-02; 8:45 am]

BILLING CODE 6353-01-P